DEPARTMENT OF COMMERCE

National Oceanic and Atmospheric Administration

Northeast Fisheries Science Center, Woods, Hole, MA; Public Meeting/Workshop

AGENCY: National Marine Fisheries Service (NMFS), National Oceanic and Atmospheric Administration (NOAA), Commerce.

ACTION: Notice of a public meeting/workshop.

SUMMARY: NOAA's Northeast Fisheries Science Center will sponsor a workshop to address the stock structure of cod in the Gulf of Maine, Georges Bank, Scotian Shelf and Southern New England regions. The Gulf of Maine Research Institute (GMRI) in Portland, ME will organize and host the meeting scheduled for June 12-14, 2012.

DATES: The meeting will be held on Tuesday, June 12, Wednesday, June 13 and Thursday, June 14, 2012, beginning at 9 a.m. each day.

ADDRESSES: The meeting will be held at the Sheraton Harborside Hotel, 250 Market St., Portsmouth, NH 03801; telephone: (603) 431-2300.

FOR FURTHER INFORMATION CONTACT: Patty Collins, Gulf of Maine Research Institute, (207) 228-1625.

SUPPLEMENTARY INFORMATION: The Stock Structure of Atlantic Cod in the Gulf of Maine Region workshop will explore current research to inform the cod assessment process. Invited participants from the fishing and scientific communities will present information on a range of topics. There also will be opportunities for discussion. Online registration is available at www.gmri.org/codstructureworkshop or contact Patty Collins at pcollins@gmri.org or (207) 228-1625 to register via telephone or email.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Patty Collins at the Gulf of Maine Research Institute, 350 Commercial Street, Portland, ME 04101; telephone: (207) 228-1625 at least 5 days prior to the meeting date.

Dated: May 22, 2012.
Tracey L. Thompson,
Acting Director, Office of Sustainable Fisheries, National Marine Fisheries Service.

[FR Doc. 2012-12801 Filed 5-24-12; 8:45 am]

BILLING CODE 3510-22-P